DEPARTMENT OF STATE

[Public Notice: 11319]

Notice of Department of State Sanctions Blocking Property and Suspending Entry of Certain Persons Contributing to the Situation in Syria

SUMMARY: The Secretary of State has imposed sanctions on three individuals.

DATES: The Secretary of State's determination and selection of certain sanctions to be imposed upon the six individuals identified in the SUPPLEMENTARY INFORMATION section were effective on December 22, 2020.

FOR FURTHER INFORMATION CONTACT: Taylor Ruggles, Director, Office of Economic Sanctions Policy and Implementation, Bureau of Economic and Business Affairs, Department of State, Washington, DC 20520, tel.: (202) 647 7677, email: RugglesTV@state.gov.

SUPPLEMENTARY INFORMATION: Pursuant to Section 2(a) of E.O. 13894 of October 14, 2019, the Secretary of State, in consultation with the Secretary of the Treasury, the Secretary of Commerce, the Secretary of Homeland Security, and the United States Trade Representative, and with the President of the Export-Import Bank, the Chairman of the Board of Governors of the Federal Reserve System, and other agencies and officials as appropriate, is authorized to impose on a person any of the sanctions described in section 2(c) of E.O. 13894 upon determining that the person met any criteria set forth in section 2(a)(i) or section 2(a)(ii) of E.O. 13894.

The Secretary of State has determined, pursuant to Section 2(a)(i)(A) of E.O. 13894, that Kifah Moulhem is complicit in, has directly or indirectly engaged in, or attempted to engage in, or financed, the obstruction, disruption, or prevention of a ceasefire in northern Syria.

The Secretary of State has determined, pursuant to Section 2(a)(i)(D) of E.O. 13894, that Asma al-Assad is responsible the obstruction, disruption, or prevention of efforts to promote a political solution to the conflict in Syria, including: The development of a new Syrian government that is representative and reflects the will of the Syrian people, per Section 2(a)(i)(D)(3) of the E.O.

The Secretary of State has determined, pursuant to Section 2(a)(ii) of E.O. 13894, that Fawaz Akhras, Sahar Otri Akhras, Firas al-Akhras, and Eyad Akhras shall be designated as adult family members of a person (Asma al-Assad) designated under Section 2(a)(i) of E.O. 13894.

Pursuant to Sections 2(b) and 2(c) of E.O. 13894, the Secretary of State has selected the following sanctions to be imposed upon Kifah Moulhem, Asma al-Assad, Fawaz Akhras, Sahar Otri Akhras, Firas al-Akhras, and Eyad Akhras:

• Block all property and interests in property that are in the United States, that hereafter come within the United States, or that are or hereafter come within the possession or control of any United States person of Kifah Moulhem, Asma al-Assad, Fawaz Akhras, Sahar Otri Akhras, Firas al-Akhras, and Eyad Akhras, and provide that such property and interests in property may not be transferred, paid, exported, withdrawn, or otherwise dealt in (Section 2(c)(iv) of E.O. 13894).

Peter D. Haas,
Principal Deputy Assistant Secretary, Bureau of Economic and Business Affairs, Department of State.

[FR Doc. 2021-00955 Filed 1-15-21; 8:45 am]

BILLING CODE 4710-AE-P